DEPARTMENT OF COMMERCE

International Trade Administration

[A-489-805]

Certain Pasta From Turkey: Final Results of Antidumping Duty Administrative Review

AGENCY: Import Administration, International Trade Administration, Department of Commerce.

ACTION: Notice of final results of antidumping duty administrative review: certain pasta from Turkey.

SUMMARY: We determine that sales of the subject merchandise have not been made below normal value (NV).

EFFECTIVE DATE: December 13, 2000.

FOR FURTHER INFORMATION CONTACT: James Terpstra or Cindy Lai Robinson, AD/CVD Enforcement, Office VI, Group II, Import Administration, International Trade Administration, U.S. Department of Commerce, 14th Street and Constitution Avenue, NW., Washington, DC 20230; telephone: (202) 482-3965 or (202) 482-3797, respectively.

SUPPLEMENTARY INFORMATION:

Applicable Statute and Regulations

Unless otherwise indicated, all citations to the Tariff Act of 1930, as amended (“the Act”) are references to the provisions effective January 1, 1995, the effective date of the amendments made to the Act by the Uruguay Round Agreements Act (“URAA”). In addition, unless otherwise indicated, all citations to the Department's regulations refer to the regulations codified at 19 CFR part 351 (1999).

Case History

On August 8, 2000, the Department of Commerce (“the Department”) published the preliminary results of its administrative review of the antidumping duty order on certain pasta from Turkey. See Notice of Preliminary Results and Partial Rescission of Antidumping Duty Administrative Review: Certain Pasta from Italy, 65 FR 48474 (“Preliminary Results”). As discussed in the preliminary results, this review covers shipments by one respondent, Filiz Gida Sanayi ve Ticaret A.S (“Filiz”), during the period of review (“POR”) July 1, 1998 through June 30, 1999. Interested parties did not submit case briefs nor did they request a hearing. There have been no changes since the preliminary results.

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (“HTSUS”). Although the HTSUS subheading is provided for convenience and Customs purposes, the written description of the merchandise subject to the order is dispositive.

Scope Rulings

The Department has issued the following scope ruling to date:

(1) On October 26, 1998, the Department self-initiated a scope inquiry to determine whether a package weighing over five pounds as a result of allowable industry tolerances is within the scope of the antidumping and countervailing duty orders. On May 24, 1999 we issued a final scope ruling finding that, effective October 26, 1998, pasta in packages weighing or labeled up to (and including) five pounds four ounces is within the scope of the antidumping and countervailing duty orders. See “Memorandum from John Brinkmann to Richard Moreland,” dated May 24, 1999, in the case file in the Central Records Unit, main Commerce building, room B-099 (“the CRU”).

Price Comparisons

We calculated export price and normal value (“NV”) based on the same methodology described in the Preliminary Results.

Cost of Production

As discussed in the Preliminary Results, we conducted an investigation to determine whether the respondent participating in the review made home market sales of the foreign like product during the POR at prices below its cost of production (“COP”) within the meaning of section 773(b)(1) of the Act. We calculated the COP for these final results following the same methodology as in the Preliminary Results.

We found 20 percent or more of Filiz's sales of a given product during the six-month reporting period were at prices less than the weighted-average COP for the reporting period and thus determined that these below cost sales were made in “substantial quantities” within an extended period of time in accordance with sections 773(b)(2)(B) and (C) of the Act. As discussed in the preliminary results, in our September 1, 1999 letter, we granted Filiz a six-month limited reporting period, and we advised Filiz that if it elected to limit its reporting of home market data to the six-month period, in the sales-below-cost investigation, it would forgo the application of the “recovery of cost” test pursuant to section 773(b)(2)(D) of the Act. Filiz agreed to accept this limitation on September 7, 1999. Consequently, without the application of “recovery of cost” test, we determined that such sales were not made at prices which would permit recovery of all costs within a reasonable period of time, in accordance with section 773(b)(2)(D) of the Act. Therefore, for purposes of these final results, we disregarded the below-cost sales and used the remaining sales as the basis for determining NV, pursuant to section 773(b)(1) of the Act. While we disregarded some below-cost sales, sufficient sales remained that passed the cost test in the current review. Therefore, it was unnecessary to calculate constructed value in this case.

Analysis of Comments Received

We gave interested parties an opportunity to comment on the Preliminary Results. As noted above, we received no comments from the petitioners or Filiz.

Final Results of Review

As a result of our review, we determine that Filiz had a zero weighted-average margin for the period July 1, 1998 through June 30, 1999.

Assessment Rate

Pursuant to 19 CFR 351.212(b), the Department calculated an assessment rate for each importer of the subject merchandise. For assessment purposes, we calculated importer-specific assessment rates for the subject merchandise by aggregating the dumping margins for all U.S. sales to each importer and dividing the amount by the total entered value of the sales to that importer. Where appropriate, in order to calculate the entered value, we subtracted international movement expenses (e.g., international freight) from the gross sales value. Where the importer-specific assessment rate is above de minimis we will instruct Customs to assess antidumping duties on that importer's entries of subject merchandise.

Cash Deposit Requirements

To calculate the cash-deposit rate for Filiz in this administrative review, we divided the total dumping margins for Filiz by the total net value for Filiz's sales during the review period.

Furthermore, the following cash deposit requirements will be effective for all shipments of the subject merchandise from Turkey entered, or withdrawn from warehouse, for consumption upon publication of these final results of administrative review, as provided by sections 751(a)(2)(A) and (C) of the Act: (1) The cash deposit rate for Filiz will be zero; (2) for other previously reviewed or investigated companies, the cash deposit rate will continue to be the company-specific rate published for the most recent period; (3) if the exporter is not a firm covered in this review, a prior review, or the original less-than-fair-value (“LTFV”) investigation, but the manufacturer is, the cash deposit rate will be the rate established for the most recent period for the manufacturer of the merchandise; and (4) if neither the exporter nor the manufacturer is a firm covered in this review or in any previous segment of this proceeding, the cash deposit rate will be 51.49 percent, the “all others” rate established in the LTFV investigation. See Notice of Antidumping Duty Order and Amended Final Determination of Sales at Less Than Fair Value: Certain Pasta from Turkey, 61 FR 38545 (July 24, 1996).

These deposit requirements shall remain in effect until publication of the final results of the next administrative review.

Notification to Importers

This notice serves as a reminder to importers of their responsibility under 19 CFR 351.402 to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (“APO”) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 751(a)(1) and 777(i)(1) of the Act (19 USC 1675(a)(1) and 19 USC 1677f(i)(1)).

Dated: December 1, 2000.
Troy H. Cribb,
Assistant Secretary for Import Administration.

[FR Doc. 00-31754 Filed 12-12-00; 8:45 am]

BILLING CODE 3510-DS-P